FEDERAL DEPOSIT INSURANCE CORPORATION

Notice of Termination of the Receivership of 10395, The First National Bank of Florida, Milton, Florida

The Federal Deposit Insurance Corporation (FDIC or Receiver), as Receiver for 10395, The First National Bank of Florida, Milton, Florida, has been authorized to take all actions necessary to terminate the Receivership Estate of The First National Bank of Florida (Receivership Estate); the Receiver has made all dividend distributions required by law.

The Receiver has further irrevocably authorized and appointed FDIC-Corporate as its attorney-in-fact to execute and file any and all documents that may be required to be executed by the Receiver which FDIC-Corporate, in its sole discretion, deems necessary; including but not limited to releases, discharges, satisfactions, endorsements, assignments and deeds.

Effective December 1, 2017, the Receivership Estate has been terminated, the Receiver discharged, and the Receivership Estate has ceased to exist as a legal entity.

Dated: December 6, 2017.
Federal Deposit Insurance Corporation.
Robert E. Feldman,
Executive Secretary.

[FR Doc. 2017-26660 Filed 12-8-17; 8:45 am]

BILLING CODE 6714-01-P